DEPARTMENT OF THE INTERIOR

Bureau of Land Management

[WY-920-1430-EU; WYW 141063, WYW 142691]

Opening of National Forest System Land; Wyoming

AGENCY: Bureau of Land Management, Interior.

ACTION: Notice.

SUMMARY: This notice terminates the temporary segregative effect of National Forest System lands which were originally included in two applications for exchanges: one for 236.16 acres in the Thunder Basin National Grassland, Medicine Bow National Forest and the other for 210.00 acres in the Bighorn National Forest.

EFFECTIVE DATE: August 28, 2000.

FOR FURTHER INFORMATION CONTACT: Jimi Metzger, BLM Wyoming State Office, 5353 Yellowstone Rd., P.O. Box 1828, Cheyenne, Wyoming 82003, 307-775-6250.

SUPPLEMENTARY INFORMATION: Pursuant to the regulations contained in 43 CFR 2091.3-2(b), at 9 a.m. on August 28, 2000, the following described lands will be relieved of the temporary segregative effect of exchange applications WYW 141063 and WYW 142691, respectively:

Sixth Principal Meridian, Wyoming

T. 55 N., R. 69 W.,

Sec. 9, Lots 9-11, 14-16.

The area described contains 236.16 acres in Campbell County, Wyoming.

T. 50 N., R. 84 W.,

Sec. 23, SE¼SE¼SE¼;

Sec. 26, NE¼, NE¼NW¼.

The area described contains 210.00 acres in Johnson County, Wyoming.

At 9 a.m. on August 28, 2000, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1988) shall vest no rights against the United States. Acts required to establish a location and to initiate a right of possession are governed by State law where not in conflict with Federal law. The BLM will not intervene in disputes between rival locators over possessory rights since Congress has provided for such determination in local courts.

Dated: August 18, 2000.
Michael Madrid,
Chief, Mineral & Lands Authorization Group.

[FR Doc. 00-21868 Filed 8-25-00; 8:45 am]

BILLING CODE 4310-22-P